DEPARTMENT OF THE INTERIOR

Fish and Wildlife Service

[FWS-R2-ES-2009-N0064; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before April 27, 2009.

ADDRESSES: Written comments should be submitted to the Chief, Endangered Species Division, Ecological Services, P.O. Box 1306, Room 6034, Albuquerque, New Mexico 87103. Documents and other information submitted with these applications are available for review, subject to the requirements of the Privacy Act and Freedom of Information Act. Documents will be available for public inspection, by appointment only, during normal business hours at the U.S. Fish and Wildlife Service, 500 Gold Ave., SW., Room 6034, Albuquerque, New Mexico. Please refer to the respective permit number for each application when submitting comments.

FOR FURTHER INFORMATION CONTACT: Susan Jacobsen, Chief, Endangered Species Division, P.O. Box 1306, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-207369

Applicant: U.S. Army Garrison, Environmental and Natural Resources Division, Fort Huachuca, Arizona.

Applicant requests a new permit for research and recovery purposes to propagate and transplant Huachuca water umbel (Lilaeopsis schaffneriana spp. recurva) within Arizona.

Permit TE-207863

Applicant: URS Corporation, Austin, Texas.

Applicant requests a new permit for research and recovery purposes to conduct presence/absence surveys of the following species: golden-cheeked warbler (Dendroica chrysoparia), black-capped vireo (Vireo atricapillus), and Houston toad (Bufo houstonensis) within Oklahoma and Texas.

Permit TE-207880

Applicant: Steven Taylor, Champaign, Illinois.

Applicant requests a new permit for research and recovery purposes to conduct presence/absence surveys of the following species: Peck's Cave amphipod (Stygobromus peckii), Comal Spring dryopid beetle (Stygoparnus comalensis), Coffin Cave mold beetle (Batrisodes texanus), Helotes mold beetle (Batrisodes venyivi), Comal Springs riffle beetle (Heterelmis comalensis), ground beetle (Rhadine exilis), ground beetle (Rhadine infernalis), Tooth Cave ground beetle (Rhadine persephone), Robber Baron Cave meshweaver (Cicurina baronia), Madla Cave meshweaver (Cicurina venii), Braken Bat Cave mesheweaver (Cicurina venii), Government Canyon Bat Cave meshweaver (Cicurina vespera), Government Canyon Bat Cave spider (Neoleptoneta microps), Tooth Cave spider (Neoleptoneta myopica), Tooth Cave pseudoscorpion (Tartarocreagris texana), Bee Creek harvestman (Texella reddelli), Bone Cave harvestman (Texella reyesi), and Robber Baron Cave harvestman (Texella cokendolpheri) within Texas.

Permit TE-207893

Applicant: Robert Edwards, Edinburg, Texas.

Applicant requests a new permit for research and recovery purposes to conduct presence/absence surveys of the following species: Rio Grande silvery minnow (Hybognathus amarus), Big bend gambusia (Gambusia gaigei), Clear Creek gambusia (Gambusia heterochir), Comanche Springs pupfish (Cyprinodon elegans), Pecos gambusia (Gambusia nobilis), Leon Springs pupfish (Cyprinodon bovines), San Marcos gambusia (Gambusia georgei), and fountain darter (Etheostoma fonticola) within Texas.

Permit TE-202343

Applicant: Daniel Ginter, Tucson, Arizona.

Applicant requests a new permit for research and recovery purposes to conduct presence/absence surveys of lesser long-nosed bat (Leptonycteris curasoae yerbabuenae) and southwestern willow flycatcher (Empidonax taillii extimus) within Arizona and New Mexico.

Permit TE-208531

Applicant: Sarah Zappitello, Buda, Texas.

Applicant requests a new permit for research and recovery purposes to conduct presence/absence surveys of the following species: Peck's Cave amphipod (Stygobromus peckii), Comal Spring dryopid beetle (Stygoparnus comalensis), Coffin Cave mold beetle (Batrisodes texanus), Helotes mold beetle (Batrisodes venyivi), Comal Springs riffle beetle (Heterelmis comalensis), ground beetle (Rhadine exilis), ground beetle (Rhadine infernalis), Tooth Cave ground beetle (Rhadine persephone), Robber Baron Cave meshweaver (Cicurina baronia), Madla Cave meshweaver (Cicurina venii), Braken Bat Cave meshweaver (Cicurina venii), Government Canyon Bat Cave meshweaver (Cicurina vespera), Government Canyon Bat Cave spider (Neoleptoneta microps), Tooth Cave spider (Neoleptoneta myopica), Tooth Cave pseudoscorpion (Tartarocreagris texana), Bee Creek harvestman (Texella reddelli), Bone Cave harvestman (Texella reyesi), Kretschmarr Cave mold beetle (Texamaurops reddelli), Cokendolpher Cave harvestman (Texella cokendolpheri), San Marcos salamander (Eurycea nana), and Texas blind salamander (Eurycea rathbuni) within Texas.

Permit TE-819528

Applicant: New Mexico Natural Heritage Program, Albuquerque, New Mexico.

Applicant requests an amendment to a current permit for research and recovery purposes to conduct presence/absence surveys of northern aplomado falcon (Falco femoralis septentrionalis) within New Mexico.

Authority: 16 U.S.C. 1531 et seq.

Dated: March 18, 2009.
Brian A. Millsap,
Acting Regional Director, Southwest Region, Fish and Wildlife Service.

[FR Doc. E9-6568 Filed 3-25-09; 8:45 am]

BILLING CODE 4310-55-P